DEPARTMENT OF AGRICULTURE

Forest Service

Del Norte Resource Advisory Committee (RAC)

AGENCY: Forest Service, USDA.

ACTION: Notice of meeting.

SUMMARY: The Del Norte Resource Advisory Committee (RAC) will meet in Crescent City, California. The committee meeting is authorized under the Secure Rural Schools and Community Self-Determination (SRS) Act (Pub. L. 110-343) and in compliance with the Federal Advisory Committee Act.

DATES: The meeting will be held February 28, 2011, from 5 p.m. to 9 p.m.

ADDRESSES: The meeting will be held at the Del Norte County Unified School District, Redwood Room, 301 West Washington Boulevard, Crescent City, California 95531.

FOR FURTHER INFORMATION CONTACT: Adam Dellinger, Committee Coordinator, Six Rivers National Forest, at (707) 441-3569; e-mail adellinger@fs.fed.us.

SUPPLEMENTARY INFORMATION: The Del Norte RAC will review applications received during the 2nd round of proposal solicitations and will vote on projects to recommend for funding. The meeting is open to the public and there will also be a public comment opportunity.

Dated: February 4, 2011.
Tyrone Kelley,
Forest Supervisor.

[FR Doc. 2011-3281 Filed 2-11-11; 8:45 am]

BILLING CODE 3410-11-P